DEPARTMENT OF COMMERCE

International Trade Administration

Agency Information Collection Activities; Submission to the Office of Management and Budget (OMB) for Review and Approval; Comment Request; SABIT Participant Application, Participant Survey, Alumni Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 23, 2020, during a 60-day comment period. This notice allows for an additional 30 days for public comments.

Agency: International Trade Administration.

Title: SABIT Program: Applications and Questionnaires.

OMB Control Number: 0625-0225.

Form Number(s): ITA-4143P.

Type of Request: Regular.

Number of Respondents: 3,500.

Average Hours per Response: 3 hours for application; 1 hour for program exit questionnaire; 1 hour for alumni success story form.

Burden Hours: 7,000.

Needs and Uses: The information collected by the SABIT application for participation in the SABIT Group Program will be used by ITA staff to determine the quality of applicants for SABIT's programs and create delegations of professionals from Eurasia and other regions. The program exit questionnaire will be used to improve the program by determining what worked and what did not work well. The alumni success form will be used to track SABIT alumni to determine how well the program is meeting its foreign policy objectives.

Affected Public: International individuals or households; International businesses or other for-profit and not-for-profit organizations.

Frequency: Individuals can fill out up to one of each of the three types of forms per year.

Respondent's Obligation: All forms are collected on a strictly voluntary basis.

Legal Authority: Section 632(a) of the Foreign Assistance Act of 1961, as amended (the “FAA”), and pursuant to the Department of State, Foreign Operations, and Related Programs Appropriations Act, 2018 (Div. K, P.L. 115-141).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0225.

Sheleen Dumas,
Department PRA Clearance Officer, Office of the Chief Information Officer, Commerce Department.

[FR Doc. 2021-01802 Filed 1-27-21; 8:45 am]

BILLING CODE 3510-HE-P